DEPARTMENT OF COMMERCE

National Oceanic and Atmospheric Administration

Proposed Information Collection; Comment Request; Fish and Seafood Promotion

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 3, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Mike Travis, (301) 427-8504 or Mike.Travis@noaa.gov.

SUPPLEMENTARY INFORMATION:

I. Abstract

This request is for extension of a currently approved information collection.

Under the authority of the Fish and Seafood Promotion Act of 1986, information collected under this program is used to promote domestically-produced fish products. The information collection requirements can be broadly divided into two categories: (1) Information required of an individual or organization applying for consideration to form a seafood promotion council, and (2) the information required of a formed and operating council, or permitted for its participants. Information required of an individual or organization applying for consideration to form a council consists of an “application for charter” composed of three subparts: petition, proposed charter, and a list of eligible referendum participants. The information required of a formed and operating council, or permitted for its participants, is as follows: council submission of an annual plan, an annual budget, and an annual financial report; council submissions of semiannual progress reports; notice of assessments once a year; list of council nominations following a favorable referendum once a year; and meeting notices once a year.

II. Method of Collection

The respondent provides written notice. No form is used.

III. Data

OMB Control Number: 0648-0556.

Form Number: None.

Type of Review: Regular submission (extension of a currently approved collection).

Affected Public: Not-for-profit institutions; business or other for-profit organizations.

Estimated Number of Respondents: 3.

Estimated Time Per Response: 320 hours.

Estimated Total Annual Burden Hours: 960.

Estimated Total Annual Cost to Public: $30 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 28, 2013.
Gwellnar Banks,
Management Analyst, Office of the Chief Information Officer.

[FR Doc. 2013-07684 Filed 4-2-13; 8:45 am]

BILLING CODE 3510-22-P